DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
New Jersey: Cape May (FEMA Docket No.: B-1354) | City of Wildwood (13-02-0099P) | The Honorable Ernest Troiano, Jr., Mayor, City of Wildwood, 4400 New Jersey Avenue, Wildwood, NJ 08260 | City Hall, 4400 New Jersey Avenue, Wildwood, NJ 08260 | January 13, 2014 | 345329
New Mexico: Bernalillo (FEMA Docket No.: B-1354) | City of Albuquerque (13-06-2180P) | The Honorable Richard J. Berry, Mayor, City of Albuquerque, P.O. Box 1293, Albuquerque, NM 87103 | Development and Review Services Division, 600 2nd Street Northwest, Suite 201, Albuquerque, NM 87102 | January 6, 2014 | 350002
Pennsylvania: Centre (FEMA Docket No.: B-1354) | Township of Ferguson (13-03-1672P) | Mr. Mark A. Kunkle, Manager, Township of Ferguson, 3147 Research Drive, State College, PA 16801 | Township of Ferguson, 3147 Research Drive, State College, PA 16801 | December 26, 2013 | 420260
Texas:
Bexar (FEMA Docket No.: B-1354) | City of San Antonio (13-06-3092P) | The Honorable Julian Castro, Mayor, City of San Antonio, P.O. Box 839966, San Antonio, TX 78283 | Department of Public Works, Storm Water Engineering, 1901 South Alamo Street, 2nd Floor, San Antonio, TX 78204 | December 19, 2013 | 480045
Bexar (FEMA Docket No.: B-1354) | City of San Antonio (13-06-3094P) | The Honorable Julian Castro, Mayor, City of San Antonio, P.O. Box 839966, San Antonio, TX 78283 | Department of Public Works, Storm Water Engineering, 1901 South Alamo Street, 2nd Floor, San Antonio, TX 78204 | December 19, 2013 | 480045
Bexar (FEMA Docket No.: B-1354) | City of Selma (13-06-2603P) | The Honorable Tom Daly, Mayor, City of Selma, 9375 Corporate Drive, Selma, TX 78154 | 9375 Corporate Drive, Selma, TX 78154 | December 24, 2013 | 480046
Bexar (FEMA Docket No.: B-1354) | Unincorporated areas of Bexar County (13-06-1509P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | January 9, 2014 | 480035
Collin (FEMA Docket No.: B-1354) | City of McKinney (13-06-3167P) | The Honorable Brian Loughmiller, Mayor, City of McKinney, P.O. Box 517, McKinney, TX 75070 | 222 North Tennessee Street, McKinney, TX 75069 | December 27, 2013 | 480135
Denton (FEMA Docket No.: B-1354) | City of Denton (13-06-2226P) | The Honorable Mark A. Burroughs, Mayor, City of Denton, 215 East McKinney Street, Denton, TX 76201 | 901-A Texas Street, Denton, TX 76209 | January 9, 2014 | 480194
Denton (FEMA Docket No.: B-1354) | Town of Trophy Club (13-06-1370P) | The Honorable Connie White, Mayor, Town of Trophy Club, 100 Municipal Drive, Trophy Club, TX 76262 | Town Hall, 100 Municipal Drive, Trophy Club, TX 76262 | January 3, 2014 | 481606
Denton (FEMA Docket No.: B-1354) | Unincorporated areas of Denton County (13-06-1370P) | The Honorable Mary Horn, Denton County Judge, 110 West Hickory Street, 2nd Floor, Denton, TX 76201 | Denton County Planning Department, 1505 East McKinney Street, Suite 175, Denton, TX 76209 | January 3, 2014 | 480774
Gregg and Harrison (FEMA Docket No.: B-1354) | City of Longview (12-06-0169P) | The Honorable Jay Dean, Mayor, City of Longview, 300 West Cotton Street, Longview, TX 75601 | Development Services Building, 410 South High Street, Longview, TX 75601 | January 10, 2014 | 480264
Karnes (FEMA Docket No.: B-1354) | City of Kenedy (13-06-2112P) | The Honorable Randy Garza, Mayor, City of Kenedy, 303 West Main Street, Kenedy, TX 78119 | 303 West Main Street, Kenedy, TX 78119 | January 9, 2014 | 485482
Travis (FEMA Docket No.: B-1354) | City of Austin (13-06-1777P) | The Honorable Lee Leffingwell, Mayor, City of Austin, P.O. Box 1088, Austin, TX 78767 | Watershed Protection Department, 505 Barton Springs Road, 12th Floor, Austin, TX 78704 | December 23, 2013 | 480624
Travis (FEMA Docket No.: B-1354) | Unincorporated areas of Travis County (12-06-3962P) | The Honorable Samuel T. Biscoe, Travis County Judge, P.O. Box 1748, Austin, TX 78767 | Travis County Administration Building, Transportation and Natural Resources Department, 700 Lavaca Street, 5th Floor, Austin, TX 78701 | December 26, 2013 | 481026

(Catalog of Federal Domestic Assistance No. 97.022, “Flood Insurance.”)

Date: March 7, 2014.
Roy E. Wright,
Deputy Associate Administrator for Mitigation, Department of Homeland Security, Federal Emergency Management Agency.

[FR Doc. 2014-06098 Filed 3-19-14; 8:45 am]

BILLING CODE 9110-12-P